DEPARTMENT OF HOUSING AND URBAN DEVELOPMENT

[Docket No. FR-5672-D-01]

Redelegation of Authority to the Deputy Assistant Secretary for Housing Counseling

AGENCY: Office of the Assistant Secretary for Housing—Federal Housing Commissioner, HUD.

ACTION: Notice of redelegation of uthority.

SUMMARY: The Dodd-Frank Wall Street Reform and Consumer Protection Act of 2010 (Dodd-Frank Act), amends section 106 of the Housing and Urban Development Act of 1968 and authorizes the establishment of an Office of Housing Counseling in the Department of Housing and Urban Development. This Notice describes specific organizational steps that HUD has taken to establish an Office of Housing Counseling and redelegates authority to the Deputy Assistant Secretary for Housing Counseling, a new position established to have primary responsibility within HUD for all activities and matters relating to homeownership and rental housing counseling consistent with section 1442 of the Dodd-Frank Act.

DATES: Effective Date: December 28, 2012.

FOR FURTHER INFORMATION CONTACT: Office of the Deputy Assistant Secretary for Housing Counseling, 451 7th Street SW., Room 9224, Washington, DC, 20410, Telephone: 202-708-0317. (This is not a toll-free number). Persons with hearing or speech impairments may access this number by calling HUD's toll-free Federal Relay Service number at 800-877-8339.

SUPPLEMENTARY INFORMATION: In general, HUD's major program for housing counseling is authorized by section 106 of the Housing and Urban Development Act of 1968 (12 U.S.C. 1701x et seq.)(1968 Act). Other statutory authority also requires HUD to provide, or cause to be provided, counseling assistance, including sections 255(f) and (l) of the National Housing Act (relating to Home Equity Conversion Mortgages) (12 U.S.C. 1715z-20) and section 2128 of the Housing and Economic Recovery Act of 2008 (relating to a pre-homeownership counseling demonstration project) (12 U.S.C. 1701x note). Other authority for HUD's housing counseling program is referenced in section 1442 of the Dodd-Frank Act (Pub. L. 111-203, approved July 21, 2010). As the primary authority for HUD's housing counseling program, section 106 is funded annually through appropriations action under a specific appropriations account for housing counseling. Activities under section 106 include pre-purchase and post-purchase homeownership counseling, default and foreclosure prevention counseling, counseling for renter households, counseling in connection with reverse mortgages and counseling to protect consumers from mortgage fraud. Counseling is provided through HUD-approved housing counseling agencies which receive grants from HUD to provide these services.

Subtitle D of Title XIV of the Dodd-Frank Act, which consists of sections 1440 through 1452, makes several amendments to strengthen HUD's housing counseling program. Section 1442 amends section 4 of the Department of Housing and Urban Development Act (42 U.S.C. 3533) (Department of HUD Act) to establish an Office of Housing Counseling within HUD specifically devoted to administration and oversight of housing counseling agencies, individual counselors and the counseling services offered under the program. Sections 1443, 1444, 1445 and 1448 of the Dodd-Frank Act amend section 106 of the 1968 Act to improve the effectiveness of HUD's housing counseling program by, among other things, defining certain commonly used terms in the program; ensuring that HUD-approved counselors provide counseling covering the entire process of homeownership from the purchase of a home to its disposition, ensuring that rental or homeownership counseling required under certain HUD programs is administered in accordance with procedures established by HUD, and requiring that all HUD-related homeownership counseling and rental housing counseling is provided by HUD-certified housing counseling agencies through HUD-certified housing counselors.

Under delegations of authority published in the Federal Register on June 20, 2012 (77 FR 37252), the authority for carrying out section 106 of the Housing and Urban Development Act of 1968 and other counseling provisions established in National Housing Act programs was delegated from the Secretary of HUD to the Assistant Secretary for Housing-Federal Housing Commissioner and the General Deputy Assistant Secretary for Housing-Deputy Federal Housing Commissioner. In turn, this authority was redelegated to the Deputy Assistant Secretary for Single Family Programs and the Associate Deputy Assistant Secretary and through them to certain managers within that organization.

To implement the Dodd-Frank Act and consolidate responsibility for homeownership and rental housing counseling within HUD, the Department assessed its existing organizational framework for providing housing counseling services and, with the approval of the Congress, determined to establish a new Office of the Deputy Assistant Secretary for Housing Counseling located within the Office of Housing. The Office of Housing Counseling would continue and expand upon the major homeownership and rental counseling services already performed by the Office of Housing. The functions of the new office are described in Section A., below.

Today's notice also redelegates authority from the Assistant Secretary for Housing to the Deputy Assistant Secretary for Housing Counseling to carry out the major homeownership and rental housing counseling programs, including section 106 activities. To the extent that today's notice redelegates authority to administer HUD's housing counseling program, this notice supersedes the redelegation of authority to the Deputy Assistant Secretary for Single Family Housing published on June 20, 2012, with respect to homeownership and rental housing counseling.

Section A. Office of the Deputy Assistant Secretary for Housing Counseling

The Office of the Deputy Assistant Secretary for Housing Counseling, directed by a Deputy Assistant Secretary for Housing Counseling and an Associate Deputy Assistant Secretary for Housing Counseling, provides overall program and grant management, policy direction, and strategy (including outreach activities) for homeownership and rental housing counseling (including certification) and also provides direction and coordination of internal and external relationships. Three offices report to the Office of the Deputy Assistant Secretary for Housing Counseling:

• The Office of Policy and Grant Administration. This office carries out research and evaluation activities, grant making and administration functions, development of program policies, procedures and regulations, and coordination with other offices within and without HUD which operate housing counseling programs. The office is headed by an Office Director and a Deputy Office Director.

• The Office of Outreach and Capacity Building. This office conducts outreach, education, training and consultation services for program participants, including housing counseling agencies and state and local governments. The office develops marketing and educational campaigns and provides training, technical assistance, and program materials to program participants. The office provides a central point of contact for program participants. The office ensures that evaluation results are integrated into its outreach activities. The office is headed by a Director and Deputy Director.

• The Office of Oversight and Accountability. Functions of the office include review of applications for approval of agencies and counselors, monitoring and evaluation of agencies and grantees to ensure compliance with counseling program requirements, tracking and oversight of grant funds, and initiating actions to remove or sanction non-compliant program participants. The office assists with program evaluation, grant making, and certification functions. The office is headed by a Director and Deputy Director.

Section B. Authority Delegated

The Assistant Secretary for Housing—Federal Housing Commissioner hereby redelegates to the Deputy Assistant Secretary for Housing Counseling and the Associate Deputy Assistant Secretary for Housing Counseling the authority to sign documents, establish procedures for, and carry out all enumerated functions in connection with homeownership counseling and rental housing counseling, including but not limited to making grants, conducting demonstration and outreach projects, evaluating program performance, imposing sanctions on program participants, developing certification requirements and providing training and technical assistance.

Section C. Authority Excepted

The authority redelegated in Section B does not include the authority to sue or be sued or to appoint members of any advisory committee established to advise the Office of the Deputy Assistant Secretary for Housing Counseling. The authority redelegated in Section B does not include authority to issue or waive any statutory or regulatory requirement for the program.

Section D. Authority to Redelegate

The authority redelegated in Section B may be redelegated to the Office Directors and Deputy Directors commensurate with the respective functions of their office and may be further redelegated as appropriate.

Section E. Authority Superseded

This redelegation supersedes all previous redelegations of authority with respect to homeownership and rental housing counseling including the redelegation of authority published on June 20, 2012 (77 FR 37252).

Authority: Section 7(d) of the Department of Housing and Urban Development Act (42 U.S.C. 3535(d)); Section 4(g) of the Department of Housing and Urban Development Act (42 U.S.C. 3533(g)), as amended by Section 1442 of the Dodd-Frank Wall Street Reform and Consumer Protection Act of 2010.

Dated: December 28, 2012.
Carol J. Galante,
Acting Assistant Secretary for Housing—Federal Housing Commissioner.

[FR Doc. 2012-31626 Filed 1-2-13; 8:45 am]

BILLING CODE 4210-67-P